DEPARTMENT OF COMMERCE

Foreign-Trade Zones Board

[Order No. 1567]

Approval of Expansion of Subzone 161A and Expansion of Manufacturing Authority, Hospira, Inc. (Pharmaceutical Products), McPherson, KS

Pursuant to its authority under the Foreign-Trade Zones Act of June 18, 1934, as amended (19 U.S.C. 81a-81u), the Foreign-Trade Zones Board (the Board) adopts the following Order:

Whereas, the Board of County Commissioners of Sedgwick, Kansas, grantee of FTZ 161, submitted an application to the Board for authority to expand the subzone and the scope of manufacturing authority under zone procedures at Subzone 161A at the Hospira, Inc., pharmaceutical facility in McPherson, Kansas, adjacent to the Wichita Customs and Border Protection port of entry (FTZ Docket 41-2007, filed 8/23/07);

Whereas, notice inviting public comment was given in the Federal Register (72 FR 50326, 8/31/07), and the application has been processed pursuant to the FTZ Act and the Board's regulations; and,

Whereas, the Board adopts the findings and recommendations of the examiner's report, and finds that the requirements of the FTZ Act and Board's regulations are satisfied, and that the proposal as described in the application and Federal Register notice is in the public interest;

Now, therefore, the Board hereby orders:

The application to expand the subzone and the scope of manufacturing authority under zone procedures for Subzone 161A is approved, subject to the FTZ Act and the Board's regulations, including section 400.28.

Signed at Washington, DC, this 24th day of July 2008.
David M. Spooner,
Assistant Secretary of Commerce for Import Administration, Alternate Chairman, Foreign-Trade Zones Board.
ATTEST:
Andrew McGilvray,
Executive Secretary.

[FR Doc. E8-18120 Filed 8-5-08; 8:45 am]

BILLING CODE 3510-DS-P